DEPARTMENT OF HEALTH AND HUMAN SERVICES

National Institutes of Health

Center for Scientific Review; Amended Notice of Meeting

Notice is hereby given of a change in the meeting of the Cell Structure and Function Study Section, June 7, 2007, 8 a.m. to June 8, 2007, 5:30 p.m., Admiral Fell Inn, 888 South Broadway, Baltimore, MD 21231, which was published in the Federal Register on April 5, 2007, 72 FR 16805-16806.

The meeting will be held one day only June 7, 2007, 8 a.m. to 7 p.m. The meeting location remains the same. The meeting is closed to the public.

Dated: April 9, 2007.
Jennifer Spaeth,
Director, Office of Federal Advisory Committee Policy.

[FR Doc. 07-1841 Filed 4-13-07; 8:45 am]

BILLING CODE 4140-01-M